DEPARTMENT OF THE INTERIOR

Office of the Secretary

[201D0102DM/DS6CS00000/DLSN00000.000000/DX6CS25]

Statement of Findings: Pechanga Band of Luiseño Mission Indians Water Rights Settlement Act

AGENCY: Office of the Secretary, Interior.

ACTION: Notice of statement of findings.

SUMMARY: The publication by the Secretary of the Interior (Secretary) of this notice causes the settlement agreement executed in accordance with Section 3402 of the Pechanga Band of Luiseo Mission Indians Water Rights Settlement Act (Settlement Act) to become enforceable and causes waivers and releases of claims executed pursuant to Section 3407 of the Settlement Act to take effect.

DATES: This notice takes effect on October 1, 2020.

FOR FURTHER INFORMATION CONTACT: Address all comments and requests for additional information to Douglas Garcia, Chair, Pechanga Settlement Implementation Team, Department of the Interior, Bureau of Indian Affairs, Pacific Regional Office, 2800 Cottage Way, Sacramento, CA 95685, (916) 978-6052, Douglas.Garcia@bia.gov.

SUPPLEMENTARY INFORMATION: Congress enacted the Settlement Act as Title III, Subtitle D of the Water Infrastructure Improvements for the Nation Act, Public Law 114-322. The Settlement Act was enacted to resolve the water right claims of the Pechanga Band of Luiseño Mission Indians (Pechanga Band) subject to an adjudication in the U.S. District Court (Adjudication Court) in United States v. Fallbrook Public Utility District, et al., Case No. 51-01247-GPC-RBB (S.D. Cal.). The Settlement Parties include the Pechanga Band, Rancho California Water District, and the United States. The Eastern Municipal Water District and Metropolitan Water District of Southern California are parties to various sub-agreements to the Pechanga Settlement Agreement (Settlement Agreement).

The Settlement Act and Settlement Agreement quantify and define the Pechanga Band's rights to water, including surface and groundwater within the Santa Margarita River watershed, that will be satisfied with local groundwater, imported recycled water, and imported potable water. The Settlement Agreement and various sub-agreements include the arrangements and infrastructure necessary to make this water available to the Pechanga Band. The United States contributed funding for imported water and infrastructure development.

Statement of Findings

In accordance with Section 3407(e) of the Settlement Act, I find as follows:

(1) The Adjudication Court has issued a judgment and decree approving the conformed Settlement Agreement consistent with the Settlement Act;

(2) All amounts authorized by the Settlement Act have been deposited into the Pechanga Settlement Fund;

(3) The waivers and releases authorized in Section 3407(a) of the Settlement Act have been executed by the Pechanga Band and the Secretary;

(4) The Extension of Service Area Agreement (ESAA) has been executed by the parties to that agreement and takes effect and is enforceable in accordance with its terms; and

(5) The ESAA Water Delivery Agreement has been executed by the parties to that agreement and takes effect and is enforceable in accordance with its terms.

Dated: September 22, 2020.
David L. Bernhardt,
Secretary of the Interior.

[FR Doc. 2020-21748 Filed 9-30-20; 8:45 am]

BILLING CODE 4334-63-P